DEPARTMENT OF HOMELAND SECURITY

Coast Guard

[Docket No. USCG-2012-0133]

Merchant Marine Personnel Advisory Committee: Intercessional Meeting

AGENCY: Coast Guard, DHS.

ACTION: Notice of Federal Advisory Committee working group meeting.

SUMMARY: The Merchant Marine Personnel Advisory Committee (MERPAC) will conduct an intercessional meeting so that a working group may discuss Task Statement 76, entitled “Review of Performance Measures (Assessment Criteria).”

This meeting will be open to the public.

DATES: A MERPAC working group will meet on March 12, 2012, from 8 a.m. until 5 p.m. Please note that the meeting may adjourn early if all business is finished. Written comments to be distributed to working group members and placed on MERPAC's Web site are due by March 5, 2012.

ADDRESSES: The working group will meet at the Hilton San Francisco Airport Bayfront Hotel, 600 Airport Blvd., Burlingame, CA 94010.

For information on facilities or services for individuals with disabilities or to request special assistance, contact Ms. Theresa Alas at telephone 650-373-4004 as soon as possible.

To facilitate public participation, we are inviting public comment on the issues to be considered by the working group, which are listed in the “Agenda” section below. Written comments must be identified by Docket No. USCG-2012-0133 and may be submitted by one of the following methods:

• Federal eRulemaking Portal: http://www.regulations.gov. Follow the instructions for submitting comments (preferred method to avoid delays in processing).

• Fax: 202-372-1918.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal Holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov.

This notice may be viewed in our online docket, USCG-2012-0133, at http://www.regulations.gov.

FOR FURTHER INFORMATION CONTACT: Mr. Rogers Henderson, Alternate Designated Federal Officer (ADFO), telephone 202-372-1408. If you have any questions on viewing or submitting material to the docket, call Renee V. Wright, Program Manager, Docket Operations, telephone 202-366-9826.

SUPPLEMENTARY INFORMATION: Notice of this meeting is given under the Federal Advisory Committee Act (FACA), 5 U.S.C. App. (Pub. L. 92-463).

MERPAC is an advisory committee authorized under section 871 of the Homeland Security Act of 2002, Title 6, United States Code, section 451, and chartered under the provisions of the FACA. The Committee will act solely in an advisory capacity to the Secretary of the Department of Homeland Security (DHS) through the Commandant of the Coast Guard and the Director of Commercial Regulations and Standards on matters relating to personnel in the U.S. merchant marine, including but not limited to training, qualifications, certification, documentation, and fitness standards. The Committee will advise, consult with, and make recommendations reflecting its independent judgment to the Secretary.

Agenda

March 12, 2012

The agenda for the March 12, 2012 working group meeting is as follows:

(1) Discuss and prepare proposed recommendations for the full committee to consider concerning Task Statement 76, entitled “Review of Performance Measures (Assessment Criteria).” The work group will specifically address performance measures (assessment criteria) for mariners seeking an endorsement as Officer in Charge of a Navigational Watch and Master on ships of less than 500 Gross Tonnage as measured under the International Tonnage Convention (ITC) while engaged on near-coastal voyages;

(2) Public comment period; and

(3) Adjournment of meeting.

Procedural: A copy of all meeting documentation is available at the https://www.fido.gov Web site or by contacting Rogers Henderson. Once you have accessed the MERPAC Committee page, click on the meetings tab and then the “View” button for the meeting dated March 12, 2012 to access the information for this meeting. Minutes will be available 90 days after this meeting. Both minutes and documents applicable for this meeting can also be found at an alternative site using the following Web address: https://homeport.uscg.mil and use these key strokes: Missions; Port and Waterways Safety; Advisory Committees; MERPAC; and then use the event key.

A public oral comment period will be held during the working group meeting. Speakers are requested to limit their comments to 3 minutes. Please note that the public oral comment period may end before the prescribed ending time of the meeting. Contact Rogers Henderson as indicated above to register as a speaker.

Dated: February 22, 2012.
J. G. Lantz,
Director of Commercial Regulations and Standards.

[FR Doc. 2012-4446 Filed 2-22-12; 4:15 pm]

BILLING CODE 9110-04-P